DEPARTMENT OF THE INTERIOR

National Park Service

Notice of Intent to Repatriate Cultural Items: University of Colorado Museum, Boulder, CO

AGENCY: National Park Service, Interior.

ACTION: Notice.

Notice is here given in accordance with the Native American Graves Protection and Repatriation Act (NAGPRA), 25 U.S.C. 3005, of the intent to repatriate cultural items in the possession of the University of Colorado Museum, Boulder, CO, that meet the definition of “unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

Between 1954 and 1990, cultural items were legally excavated on private land near Yellow Jacket Pueblo (5MT5), Montezuma County, CO, by Dr. Joe Ben Wheat, during University of Colorado Museum sponsored archeological field schools. The excavated cultural items were collected from graves and legally transferred to the museum each season. The human remains were not collected due to deterioration or other circumstances. The 68 cultural items are 66 ceramic items (whole vessels, broken vessels, and sherd lots), 1 stone ax, and 1 bone awl.

The three habitation sites, identified on the National Register of Historic Places as the Joe Ben Wheat Site Complex, are at the head of Yellow Jacket Canyon to the west of Tatum Draw and southwest of the very large archeological site, Yellow Jacket Pueblo. The Yellow Jacket burials were predominantly single interments, appearing in a wide variety of locations, including abandoned rooms and kivas, storage pits, subfloor burial pits, extramural burial pits, and middens.

The habitation sites were occupied at various times during the Basketmaker III, Pueblo II, and Pueblo III periods, approximately A.D. 550 - 1250, with a temporary abandonment during the Pueblo I period, approximately A.D. 750 - 900. Based on the general continuity in the material culture and the architecture of these sites, it appears that the community that lived in this area had long-standing ties to the region and returned to sites even after migrations away from the locale that lasted more than one hundred years. However, by the late 13th century, both the Yellow Jacket sites and the nearby Mesa Verde region showed no evidence of human habitation. The sites are not used again until the 1920s when the locale was homesteaded and farmed.

The archeological evidence supports identification with Basketmaker and later Pueblo (Hisatsinom, Ancestral Puebloan, or Anasazi) cultures, which prehistorically occupied southwestern Colorado. Both Basketmaker and Pueblo occupations are represented in the archeology at the Yellow Jacket site. Archeologists have noted in the scientific literature the striking similarity between the technology and style of material culture of 13th century archeological sites in southwestern Colorado and the material culture remains of 14th century Puebloan sites in Arizona and New Mexico.

Oral-tradition evidence, which consists of migration stories, clan histories, and origin stories, was provided by representatives of the Hopi Tribe of Arizona; Navajo Nation, Arizona, New Mexico & Utah; Pueblo of Acoma, New Mexico; Pueblo of Isleta, New Mexico; Pueblo of Jemez, New Mexico; Pueblo of Laguna, New Mexico; Pueblo of Nambe, New Mexico; Pueblo of Pojoaque, New Mexico; Pueblo of San Ildefonso, New Mexico; Pueblo of San Juan, New Mexico; Pueblo of Santa Ana, New Mexico; Pueblo of Santa Clara, New Mexico; Pueblo of Taos, New Mexico; Pueblo of Tesuque, New Mexico; Pueblo of Ysleta del Sur, New Mexico; Pueblo of Zia, New Mexico; and Zuni Tribe of the Zuni Reservation, New Mexico. Folkloric evidence in the form of songs was provided by tribal representatives of the Pueblo of Acoma, New Mexico; Pueblo of Cochiti, New Mexico; Pueblo of Isleta, New Mexico; Pueblo of Nambe, New Mexico; and Pueblo of San Ildefonso, New Mexico.

Tribal representatives of the Pueblo of Acoma, New Mexico; Pueblo of Nambe, New Mexico; Pueblo of San Ildefonso, New Mexico; and Pueblo of Taos, New Mexico provided linguistic evidence rooted in place names. Pueblo of Cochiti, New Mexico; Pueblo of Nambe, New Mexico; Pueblo of San Ildefonso, New Mexico; and Pueblo of Santa Clara, New Mexico provided archeological evidence based on architecture and material culture of their shared relationship.

Archeological, historical and linguistic evidence presently points to Navajo migration to the Yellow Jacket and Monument Ruin area after A.D. 1300. During consultation, the Navajo Nation, Arizona, New Mexico & Utah emphasized their long presence in the Four Corners and their origin in this area, but there is not a preponderance of the evidence to support Navajo cultural affiliation.

Based on a preponderance of evidence, including oral tradition, folklore, linguistic, geographic, archeology, historical, and scientific studies, cultural affiliation can be traced between the 68 unassociated funerary objects and modern Puebloan peoples. Modern Puebloan peoples are members of the Hopi Tribe of Arizona; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of San Juan, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Ysleta del Sur Pueblo of Texas; and Zuni Tribe of the Zuni Reservation, New Mexico.

Officials of the University of Colorado Museum have determined that, pursuant to 25 U.S.C. 3001 (3)(B), the 68 cultural items described above are reasonably believed to have been placed with or near individual human remains at the time of death or later as part of the death rite or ceremony and are believed, by a preponderance of the evidence, to have been removed from a specific burial site of an Native American individual. Officials of the University of Colorado Museum also have determined that, pursuant to 25 U.S.C. 3001 (2), there is a relationship of shared group identity that can be reasonably traced between the unassociated funerary objects and the Hopi Tribe of Arizona; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of San Juan, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Ysleta del Sur Pueblo of Texas; and Zuni Tribe of the Zuni Reservation, New Mexico.

Representatives of any other Indian tribe that believes itself to be culturally affiliated with the unassociated funerary objects should contact Stephen Lekson, Curator of Anthropology, University of Colorado Museum, Henderson Building, Campus Box 218, Boulder, CO 80309-0218, telephone (303) 492-6671, before April 16, 2007. Repatriation of the unassociated funerary objects to the Pueblo of Acoma, New Mexico may proceed after that date if no additional claimants come forward.

University of Colorado Museum is responsible for notifying the Hopi Tribe of Arizona; Navajo Nation, Arizona, New Mexico & Utah; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of San Juan, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Southern Ute Indian Tribe of the Southern Ute Reservation, Colorado; Ute Mountain Tribe of the Ute Mountain Reservation, Colorado, New Mexico & Utah; Ysleta Del Sur Pueblo of Texas; and Zuni Tribe of the Zuni Reservation, New Mexico that this notice has been published.

Dated: February 2, 2007.
Sherry Hutt,
Manager, National NAGPRA Program.

[FR Doc. E7-4733 Filed 3-14-07; 8:45 am]

BILLING CODE 4312-50-S